DEPARTMENT OF ENERGY

Federal Energy Regulatory Commission

[Docket No. MG01-18-000]

Iroquois Gas Transmission System, L.P.; Notice of Filing

January 4, 2001.

Take notice that on December 11, 2000, Iroquois Gas Transmission System, L.P. (Iroquois) filed revised standards of conduct under Order Nos. 497 et seq..¹ Order Nos. 566 et seq.,² and Order No. 599.³

¹ Order No. 497, 53 FR 22139 (June 14, 1988), FERC Stats. & Regs. 1986-1990 30,820 (1988); Order No. 497-A, order on rehearing, 54 FR 52781 (December 22, 1989), FERC Stats. & Regs. 1986-1990 30,868 (1989); Order No. 497-B, order extending sunset date, 55 FR 53291 (December 28, 1990), FERC Stats. & Regs. 1986-1990 30,908 (1990); Order No. 497-C, order extending sunset date, 57 FR 9 (January 2, 1992), FERC Stats. & Regs. 1991-1996 30,934 (1991), rehearing denied, 57 FR 5815 (February 18, 1992), 58 FERC 61,139 (1992); Tenneco Gas v. FERC (affirmed in part and remanded in part), 969 F.2d 1187 (D.C. Cir. 1992); Order No. 497-D, order on remand and extending sunset date, 57 FR 58978 (December 14, 1992), FERC Stats. & Regs. 1991-1996 30,958 (December 4, 1992); Order 497-E, order on rehearing and extending sunset date, 59 FR 243 (January 4, 1994), FERC Stats. & Regs. 1991-1996 30,987 (December 23, 1993); Order No. 497-F, order denying rehearing and granting clarification, 59 FR 15336 (April 1, 1994), 66 FERC 61,347 (March 24, 1994); and Order No. 497-G, order extending sunset date, 59 FR 32884 (June 27, 1994), FERC Stats. & Regs. 1991-1996 30,996 (June 17, 1994).

² Standards of Conduct and Reporting Requirements for Transportation and Affiliate Transactions, Order No. 566, 59 FR 32885 (June 27, 1994), FERC Stats. & Regs. 1991-1996 30,997 (June 17, 1994); Order No. 566-A, order on rehearing, 59 FR 52896 (October 20, 1994), 69 FERC 61,044 (October 14, 1994); Order No. 566-B, order on rehearing, 59 FR 65707, (December 21, 1994), 69 FERC 61,334 (December 14, 1994).

³ Reporting Interstate Natural Gas Pipeline Marketing Affiliates on the Internet, Order No. 599, 63 FR 43075 (August 12, 1998), FERC Stats. & Regs. 31,064 (1998).

Iroquois states that it mailed copies of this filing to all customers and interested parties.

Any person desiring to be heard or to protest this filing should file a motion to intervene or protest in this proceeding with the Federal Energy Regulatory Commission, 888 First Street, NE., Washington, DC., 20426, in accordance with rules 211 or 214 of the Commission's Rules of Practice and Procedure (18 CFR 385.211 or 385.214). All such motions to intervene or protests should be filed on or before January 19, 2001. Protests will be considered by the Commission in determining the appropriate action to be taken but will not serve to make protestants parties to the proceeding. Any person wishing to become a party must file a motion to intervene in this proceeding. Copies of this filing are on file with the Commission and are available for public inspection. This filing may be viewed on the web at http://www.ferc.fed.us/online/rims.htm (call 202-208-2222 for assistance).

David P. Boergers,
Secretary.

[FR Doc. 01-639 Filed 1-9-01; 8:45 am]

BILLING CODE 6717-01-M